DEPARTMENT OF COMMERCE

National Oceanic and Atmospheric Administration

RIN 0648-XD248

Endangered Species; File No. 18526

AGENCY: National Marine Fisheries Service (NMFS), National Oceanic and Atmospheric Administration (NOAA), Commerce.

ACTION: Notice; receipt of application.

SUMMARY: Notice is hereby given that Coonamessett Farm Foundation, Inc., 277 Hatchville Road, East Falmouth, MA 02536 [Responsible Party: Ronald Smolowitz] has applied in due form for a permit to take sea turtles for purposes of scientific research.

DATES: Written, telefaxed, or email comments must be received on or before May 22, 2014.

ADDRESSES: The application and related documents are available for review by selecting “Records Open for Public Comment” from the Features box on the Applications and Permits for Protected Species (APPS) home page, https://apps.nmfs.noaa.gov, and then selecting File No. 18526 from the list of available applications.

These documents are also available upon written request or by appointment in the following office:

Permits and Conservation Division, Office of Protected Resources, NMFS, 1315 East-West Highway, Room 13705, Silver Spring, MD 20910; phone (301) 427-8401; fax (301) 713-0376.

Written comments on this application should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Kristy Beard or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The purpose of the research is to continue ongoing research to assess and reduce sea turtle bycatch in sea scallop fisheries in the Mid-Atlantic Bight. The research will aid in evaluating abundance estimates, evaluating scallop harvesting strategies to minimize harm to sea turtles, and defining critical habitat. Loggerhead (Caretta caretta), Kemp's ridley (Lepidochelys kempii), leatherback (Dermochelys coriacea), green (Chelonia mydas), and unidentified hardshell sea turtles would be captured by hoopnet. Up to 20 loggerhead, 1 Kemp's ridley, 1 leatherback, 1 green, and 1 unidentified sea turtle annually would be captured, weighed and measured, blood and tissue sampled, and tagged with flipper tags, passive integrated transponders, and satellite tags. Turtles would also be tracked and monitored with a remotely operated vehicle.

The permit would be valid for five years.

Dated: April 17, 2014.
Tammy C. Adams,
Acting Chief, Permits and Conservation Division, Office of Protected Resources, National Marine Fisheries Service.

[FR Doc. 2014-09134 Filed 4-21-14; 8:45 am]

BILLING CODE 3510-22-P